DEPARTMENT OF TRANSPORTATION

Federal Aviation Administration

14 CFR Part 39

[Docket No. 2002-NE-42-AD]

RIN 2120-AA64

Airworthiness Directives; Honeywell International Inc. (formerly AlliedSignal) Model RE220 (RJ) Auxiliary Power Units

AGENCY: Federal Aviation Administration, DOT.

ACTION: Notice of proposed rulemaking (NPRM).

SUMMARY: The Federal Aviation Administration (FAA) proposes to adopt a new airworthiness directive (AD) that is applicable to Honeywell International Inc. (formerly AlliedSignal) model RE220 (RJ) auxiliary power units (APUs) part number (P/N) WE3800770-2. This proposal would require replacing the existing fuel nozzles with new design fuel nozzles, making reidentification updates to the APU identification plate, and operating the APU to perform a visual inspection for fuel leaks. This proposal is prompted by reports received by the FAA of cracks occurring in the existing APU fuel nozzles leading to fuel leaks. The actions specified by the proposed AD are intended to prevent APU compartment fires and fuel vapor explosion.

DATES: Comments must be received by March 31, 2003.

ADDRESSES: Submit comments in triplicate to the Federal Aviation Administration (FAA), New England Region, Office of the Regional Counsel, Attention: Rules Docket No. 2002-NE-42-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

FOR FURTHER INFORMATION CONTACT: Roger Pesuit, Aerospace Engineer, Los Angeles Aircraft Certification Office, FAA, Transport Airplane Directorate, 3960 Paramount Blvd., Lakewood, CA 90712-4137; telephone (562) 627-5251, fax (562) 627-5210.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NE-42-AD.” The postcard will be date stamped and returned to the commenter.

Availability of NPRMs

Any person may obtain a copy of this NPRM by submitting a request to the FAA, New England Region, Office of the Regional Counsel, Attention: Rules Docket No. 2002-NE-42-AD, 12 New England Executive Park, Burlington, MA 01803-5299.

Discussion

In May 2002, the FAA became aware of several reports of fuel leaks, occurring in APU compartments of Bombardier model CL-600-2C10 airplanes. The fuel leaks were determined to be caused by cracks of threaded fittings on fuel nozzles, installed in Honeywell International Inc. (formerly AlliedSignal) model RE220 (RJ) APUs P/N WE3800770-2. This condition, if not corrected, could result in APU compartment fires and fuel vapor explosion.

FAA's Determination of an Unsafe Condition and Proposed Actions

Since an unsafe condition has been identified that is likely to exist or develop on other Honeywell International Inc. (formerly AlliedSignal) model RE220 (RJ) APUs of the same type design, the proposed AD would require replacing the existing fuel nozzles, P/N WE3830486-2, with new design fuel nozzles, P/N WE3830513-1, making reidentification updates to the APU identification plate, and operating the APU to perform a visual inspection for fuel leaks.

Economic Analysis

There are approximately 95 Honeywell International Inc. (formerly AlliedSignal) model RE220 (RJ) APUs of the affected design in the worldwide fleet. The FAA estimates that 67 APUs installed on airplanes of U.S. registry would be affected by this proposed AD. The FAA also estimates that it would take approximately 3.5 work hours per APU to perform the proposed actions, and that the average labor rate is $60 per work hour. Required parts would cost approximately $34,077 per engine. Based on these figures, the total cost of the proposed AD to U.S. operators is estimated to be $2,297,249. The manufacturer has advised the FAA that they may provide fuel nozzles P/N WE3830513-1 at no cost to the operator, and 3.5 hours of labor credit, thereby substantially reducing the cost of this proposed rule.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Honeywell International Inc. (formerly AlliedSignal): Docket No. 2002-NE-42-AD.

Applicability: This airworthiness directive (AD) is applicable to Honeywell International Inc. (formerly AlliedSignal) model RE220 (RJ) auxiliary power units (APUs) part number (P/N) WE3800770-2. These APUs are installed on, but not limited to Bombardier model CL-600-2C10 airplanes.

Note 1: This AD applies to each APU identified in the preceding applicability provision, regardless of whether it has been modified, altered, or repaired in the area subject to the requirements of this AD. For APUs that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Compliance with this AD is required as indicated, unless already done.

To prevent APU compartment fires and fuel vapor explosion, do the following:

(a) Within six months after the effective date of this AD, replace APU fuel nozzles, P/N WE3830486-2, with new design fuel nozzles, P/N WE3830513-1. Information on fuel nozzle replacement can be found in Honeywell International Inc. alert service bulletin (ASB) RE220-49-A7714, dated November 4, 2002.

(b) Reidentify the APU as follows:

(1) Change the P/N from WE3800770-2 to WE3800770-3 on the identification plate, by removing the -2 and vibropeening or hand stamping a -3 in its place.

(2) Vibropeen or hand stamp the letter “C” after the serial number to show conversion.

(3) Vibropeen or hand stamp “Change Number 3” on the identification plate adjacent to the MOD RECORD.

(c) Start the APU and perform a visual fuel leak check after one minute of operation.

(d) After the effective date of this AD, do not install fuel nozzles P/N WE3830486-2 into any APU P/N WE3800770-3.

Alternative Methods of Compliance

(e) An alternative method of compliance or adjustment of the compliance time that provides an acceptable level of safety may be used if approved by the Manager, Los Angeles Aircraft Certification Office (LAACO). Operators must submit their requests through an appropriate FAA Principal Maintenance Inspector, who may add comments and then send it to the Manager, LAACO.

Note 2: Information concerning the existence of approved alternative methods of compliance with this airworthiness directive, if any, may be obtained from the LAACO.

Special Flight Permits

(f) Special flight permits may be issued in accordance with §§ 21.197 and 21.199 of the Federal Aviation Regulations (14 CFR 21.197 and 21.199) to operate the airplane to a location where the requirements of this AD can be done.

Issued in Burlington, Massachusetts, on January 21, 2003.
Francis A. Favara,
Acting Manager, Engine and Propeller Directorate, Aircraft Certification Service.

[FR Doc. 03-2094 Filed 1-29-03; 8:45 am]

BILLING CODE 4910-13-P